DEPARTMENT OF HOMELAND SECURITY

Transportation Security Administration

[Docket No. TSA-2005-21866]

Intent To Request Extension From OMB of One Current Public Collection of Information: Enhanced Security Procedures at Ronald Reagan Washington National Airport

AGENCY: Transportation Security Administration, DHS.

ACTION: 60-Day notice.

SUMMARY: The Transportation Security Administration (TSA) invites public comment on one currently approved Information Collection Request (ICR), Office of Management and Budget (OMB) control number 1652-0035, abstracted below that we will submit to OMB for an extension in compliance with the Paperwork Reduction Act (PRA). The ICR describes the nature of the information collection and its expected burden. The collection requires General Aviation (GA) aircraft operators to designate a security coordinator and adopt a DCA Access Standard Security Program (DASSP). The collection also involves obtaining information for Armed Security Officers (ASOs).

DATES: Send your comments by January 24, 2025.

ADDRESSES: Comments may be emailed to TSAPRA@tsa.dhs.gov or delivered to the TSA PRA Officer, Information Technology (IT), TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0035; Enhanced Security Procedures at Ronald Reagan Washington National Airport (DCA). Each person who wishes to operate an aircraft into and out of DCA must designate a security coordinator and adopt the DASSP. See 49 CFR 1562.21 and 1562.23. Once aircraft operators have adopted the DASSP, to fly into or out of DCA the operators must request a tentative slot reservation from the Federal Aviation Administration (FAA) and request authorization from TSA. This information is collected under OMB control number 1652-0033, TSA Airspace Waiver Program. If TSA approves the flight, TSA will transmit that information to FAA.

Applicant Information Collection for DCA Access Standard Security Program

The DASSP application collects basic information about the applicant, the aircraft operator, and the security coordinator that the operator wishes to designate, as well as the identifier of the airport used as a base of operation and whether the operator presently holds another TSA Standard Security Program.

TSA also requires the following individuals to submit fingerprints for a criminal history records check (CHRC) and other identifying information for a name-based security threat assessment:

• Individuals designated as security coordinators by Fixed Base Operators (FBOs) under 49 CFR 1562.25 ¹ and GA aircraft operators under 1562.23;

¹ An FBO is an airport-based commercial enterprise that provides support services to aircraft operators, such as maintenance, overnight parking, fueling and de-icing.

• Flight crewmembers who operate GA aircraft into and out of DCA in accordance with 49 CFR 1562.23 and DASSP; and

• ASOs approved in accordance with 49 CFR part 1562.29.

For flight crewmembers, TSA also uses this information to check their FAA records to determine whether the individual has a record of violation of specified FAA regulations. As part of the threat assessment process, TSA shares the information with the Federal Bureau of Investigation and the FAA.

Aircraft operators must also maintain CHRC records of all employees and authorized representatives for whom a CHRC has been completed. These records must be made available to TSA upon request.

Applicant Information Collection for the Armed Security Officer Program

Under the ASO Program, established by 49 CFR 1562.29, aircraft operators and FBOs participating in this program can nominate the individuals they would like to be qualified as ASOs by submitting an ASO nomination form to TSA. Once nominated, the ASOs are required to submit fingerprints and identifying information, personal history information, a photograph, and weapon information before an ASO application can be approved. TSA uses the applicants' information to conduct a complete applicant vetting, to include a fingerprint based CHRC and security threat assessment. The vetting also includes an employment history verification check of all prior law enforcement positions. Upon successful completion of these checks and law enforcement employment history review, TSA makes the final determination of ASO applicant eligibility. All qualified applicants must then successfully complete a TSA-approved training course.

TSA estimates a total of 78 respondents annually for DASSP applications, with an annual hour burden estimate of 78. In addition, TSA estimates 84 respondents annually for ASO nominations, with an annual hour burden of 98. The total number of respondents is estimated to be 162, while the total annual burden hours are estimated to be 176 per year.

Dated: November 19, 2024.
Christina A. Walsh,
TSA Paperwork Reduction Act Officer, Information Technology.

[FR Doc. 2024-27475 Filed 11-22-24; 8:45 am]

BILLING CODE 9110-05-P